Title 3—

The President

Proclamation 7475 of October 1, 2001

National Domestic Violence Awareness Month, 2001

By the President of the United States of America

A Proclamation

The social blight of domestic violence has continued to burden America into the 21st Century. Our homes should be places of safety and comfort. Tragically, domestic violence can and does turn many homes into places of torment. The grim facts speak for themselves: almost one-third of American women murdered each year are killed by their current or former partners, usually a husband. Approximately 1 million women annually report being stalked. And many children suffer or witness abuse in their homes, which can sadly spawn legacies of violence in families across America.

Domestic violence spills over into schools and places of work; and it affects people from every walk of life. Though abuse may occur in the seclusion of a private residence, its effects scar the face of our Nation.

In the United States, we have strict laws intended to hold domestic abusers accountable for their vile conduct by bringing them to justice, but laws alone are not enough. A comprehensive, coordinated approach must shape our strategy to reduce domestic violence. Accordingly, the Federal Government is partnering with States, local communities, and other entities to implement tough and effective mechanisms to respond to reports of domestic violence.

These efforts include specialized units in police departments, and prosecutors offices that work with local victims' advocates to make the criminal justice system more responsive to victims and more retributive to their abusers. Jurisdictions throughout the country now provide legal assistance to ensure that when victims try to escape abuse, they can obtain legal help from attorneys who understand the dynamics of domestic violence. Law enforcement officers, prosecutors, court personnel, and service providers are working to improve their responses to the often hidden victims of elder abuse and violence against women with disabilities. Moreover, thousands of communities now have shelters and emergency services for abused women and their children.

As a Nation, we must prioritize addressing the problem of domestic violence in our communities every day of the year. National Domestic Violence Awareness Month provides us with a special opportunity to emphasize that domestic violence is a crime, to warn abusers that they will be prosecuted, and to offer victims more aid and support. We can and must radically reduce and work to eliminate this scourge from our land. To succeed, this effort must be echoed by officials from every segment of the criminal justice system, Federal, State, and local. Community leaders, health care professionals, teachers, employers, friends, and neighbors all will play an important role in eradicating domestic violence.

As we observe National Domestic Violence Awareness Month, I call on all Americans to commit to preventing domestic violence and to assist those who suffer from it. These collective efforts will contribute to peace in our homes, schools, places of work, and communities and will help ensure the future safety of countless children and adults.

NOW, THEREFORE, I, GEORGE W. BUSH, President of the United States of America, by virtue of the authority vested in me by the Constitution and laws of the United States, do hereby proclaim October 2001, as National Domestic Violence Awareness Month. I urge all Americans to learn more about this terrible problem and to take positive action in protecting communities and families from its devastating effects.

IN WITNESS WHEREOF, I have hereunto set my hand this first day of October, in the year of our Lord two thousand one, and of the Independence of the United States of America the two hundred and twenty-sixth.

B

[FR Doc. 01-25040

Filed 10-3-01; 8:45 am]

Billing code 3195-01-P